DEPARTMENT OF DEFENSE

Office of the Secretary

[Docket ID: DOD-2010-OS-0064]

U.S. Court of Appeals for the Armed Forces Proposed Rules Changes

ACTION: Notice of proposed change to the Rules of Practice and Procedure of the United States Court of Appeals for the Armed Forces.

SUMMARY: This notice announces the following proposed change to Rule 30A(a) of the Rules of Practice and Procedure, United States Court of Appeals for the Armed Forces.

DATES: Comments on the proposed change must be received within 30 days of the date of this notice.

ADDRESSES: You may submit comments, identified by docket number and title by any of the following methods:

• Federal eRulemaking Portal: http://www.regulations.gov.

• Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://regulations.gov as they are received without change, including personal identifiers or contact information.

FOR FURTHER INFORMATION CONTACT: William A. DeCicco, Clerk of the Court, telephone (202) 761-1448.

Dated: May 5, 2010.
Mitchell S. Bryman,
Alternate OSD Federal Register Liaison Officer, Department of Defense.

Rule 30A(a)

Rule 30A(a) currently reads:

(a) General. The Court will normally not consider any facts outside of the record established at the trial and the Court of Criminal Appeals.

The proposed change to Rule 30A(a) would read:

(a) General. The Court will normally not consider any facts outside of the record established at the trial and the Court of Criminal Appeals. Requests to consider factual material that is not contained in the record shall be presented by a motion to supplement the record filed pursuant to Rule 30. The motion shall include statements explaining why the matter was not raised previously at trial or before the Court of Criminal Appeals and why it is appropriate to be considered for the first time in this Court. Motions filed pursuant to this Rule will be granted only for good cause shown.

Comment: The proposed change establishes a procedure for properly presenting a request to the Court to consider evidence that is not in the record. The rule requires a party to explain in a motion why the Court may consider the evidence although it was not considered previously and is not part of the record. The rule also contains a standard for granting motions under the rule.

[FR Doc. 2010-11036 Filed 5-10-10; 8:45 am]

BILLING CODE 5001-06-P